DEPARTMENT OF ENERGY

Federal Energy Regulatory Commission

Notice of Commissioner and Staff Attendance at ReliabilityFirst Corporation Meetings

The Federal Energy Regulatory Commission hereby gives notice that members of the Commission and/or Commission staff may attend the following meetings:

ReliabilityFirst Corporation, Annual Meeting of Members and Board of Directors Meetings, Grand Hyatt Washington, 1000 H Street NW., Washington, DC 20001.

December 1, 2011 (8:15 a.m.—10:15 a.m. and 10:30 a.m.—2 p.m., respectively)

The discussions at the meetings, which are open to the public, may address matters at issue in the following Commission proceedings:

Docket No. RC08-5, North American Electric Reliability Corporation

Docket No. RC11-1, North American Electric Reliability Corporation

Docket No. RC11-2, North American Electric Reliability Corporation

Docket No. RC11-5, North American Electric Reliability Corporation

Docket No. RC11-6, North American Electric Reliability Corporation

Docket No. RR08-4, North American Electric Reliability Corporation

Docket No. RR10-11, North American Electric Reliability Corporation

Docket No. RR11-1, North American Electric Reliability Corporation

Docket No. RR11-2, North American Electric Reliability Corporation

Docket No. RR11-4, North American Electric Reliability Corporation

Docket No. RR11-5, North American Electric Reliability Corporation

Docket No. RR11-7, North American Electric Reliability Corporation

Docket No. RD09-11, North American Electric Reliability Corporation

Docket No. RD10-2, North American Electric Reliability Corporation

Docket No. RD11-3, North American Electric Reliability Corporation

Docket No. RD11-8, North American Electric Reliability Corporation

Docket No. RD11-9, North American Electric Reliability Corporation

Docket No. RD11-10, North American Electric Reliability Corporation

Docket No. RD11-11, North American Electric Reliability Corporation

Docket No. RD11-12, North American Electric Reliability Corporation

Docket No. NP11-238, North American Electric Reliability Corporation

For further information, please contact Jonathan First, (202) 502-8529, or jonathan.first@ferc.gov.

Dated: November 14, 2011.
Kimberly D. Bose,
Secretary.

[FR Doc. 2011-29932 Filed 11-18-11; 8:45 am]

BILLING CODE 6717-01-P